DEPARTMENT OF HEALTH AND HUMAN SERVICES

Administration for Children and Families

Submission for OMB Review; Comment Request

Title: Caseload Reduction Documentation Process, ACF-202.

OMB No.: 0970-0199.

Description: To ensure that States receive credit for families that have become self-sufficient and left the welfare rolls, Congress created a caseload reduction credit. The credit reduces the required participation rate that a State must meet for a fiscal year. To receive a caseload reduction credit, a State must complete form ACF-202, the Caseload Reduction Report. The report provides information needed to calculate a caseload reduction credit, and thus determines the participation standard each State must meet for the fiscal year. This report derives from section 407(a)(3) of the Social Security Act and the implementing Federal Regulations at 45 CFR part 261, subpart D.

Respondents: The 50 States of the United States, the District of Columbia, Guam, Puerto Rico, and the Virgin Islands.

Annual Burden Estimates
Instrument | Number of respondents | Number of responses per respondent | Average burden hours per response | Total burden hours
Caseload Reduction Documentation Process, ACF-202 | 54 | 1 | 160 | 8,640
Estimated Total Annual Burden Hours | 8,640

Additional Information

Copies of the proposed collection may be obtained by writing to the Administration for Children and Families, Office of Administration, Office of Information Services, 370 L'Enfant Promenade, SW., Washington, DC 20447, Attn: ACF Reports Clearance Officer.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: February 10, 2003.
Robert Sargis,
Reports Clearance Officer.

[FR Doc. 03-3680 Filed 2-13-03; 8:45 am]

BILLING CODE 4184-01-M